DEPARTMENT OF VETERANS AFFAIRS

Special Medical Advisory Group, Amended, Notice of Meeting

The Department of Veterans Affairs (VA) gives notice under the Federal Advisory Committee Act, 5 U.S.C. ch. 10, that the Special Medical Advisory Group (the Committee) will meet on September 25-26, 2024, at the Palo Alto VA Medical Center (Celebration Room), 3801 Miranda Avenue, in Palo Alto, CA. The September meeting sessions will begin and end as follows:

Date | Time | Open session
September 25, 2024 | 8:30 a.m.-4 p.m. Pacific time (PT) | Yes.
September 26, 2024 | 9 a.m.-3 p.m. PT | Yes.

The purpose of the Committee is to advise the Secretary of Veterans Affairs and the Under Secretary for Health on the care and treatment of Veterans, and other matters pertinent to the Veterans Health Administration.

On September 25, 2024, the agenda for the meeting will include discussions on strategies for increasing access, community care program, challenges to growth, digital health overview, tele-urgent and emergent care, artificial intelligence, efforts to reduce administrative burdens for providers, nursing infrastructure, electronic health record management deployment and behavioral and mental health care, and strategy for long-COVID management.

The Committee is revising its September meeting agenda to receive additional information and data. On September 26th, 9 a.m. PT, the Committee will call the meeting to order and introduce a revised meeting agenda schedule, which incorporates additional presentations and discussion open to the public. The Parent Committee meeting will pause from 9:15 a.m. PT to 1:15 p.m. PT to accommodate its Subcommittee engagement with local VA medical center leadership for a facility and campus tour as well as briefing on proprietary information. The Parent Committee will reopen the meeting for the public from 1:15 p.m. PT to 3 p.m. PT. Meeting participation data and points of contact remain unchanged.

Members of the Committee may join in person or virtually. The meeting is open to the public. The public is encouraged to attend virtually due to seating limitations in the physical meeting space. Persons can joined by phone at 404-397-1596 (Access code: 28225920144) and via Webex at: https://veteransaffairs.webex.com/wbxmjs/joinservice/sites/veteransaffairs/meeting/download/3777e040e97e4d9fbf178572395a9611?siteurl=veteransaffairs&MTID=mbfe409f4d3327b0560086f2af98f0825. Please contact the point of contact below for assistance connecting.

Members of the public may also submit written statements in advance for review by the Committee to: Department of Veterans Affairs, Special Medical Advisory Group—Office of Under Secretary for Health (10), Veterans Health Administration, 810 Vermont Ave. NW, Washington, DC 20420 or by email at: VASMAGDFO@va.gov. Comments will be accepted until close of business on Thursday, September 19, 2024. The meeting will also include time reserved for live public comment at the end of the meeting on September 26, 2024. The public comment period will be 30 minutes and each individual commenter will be afforded a maximum of five minutes to express their comments.

Any member of the public wishing to attend the meeting or seeking additional information should email VASMAGDFO@va.gov or call 202-461-7000.

Dated: September 23, 2024.
LaTonya L. Small,
Federal Advisory Committee Management Officer.

[FR Doc. 2024-22150 Filed 9-26-24; 8:45 am]

BILLING CODE 8320-01-P